ENVIRONMENTAL PROTECTION AGENCY

[EPA-HQ-OPP-2013-0770; FRL-9402-9]

Registration Applications for Pesticide Products Containing New Active Ingredients; Corrections

AGENCY: Environmental Protection Agency (EPA).

ACTION: Notice; corrections.

SUMMARY: EPA issued a notice in the Federal Register of August 14, 2012, concerning a new active ingredient (AI). The name of an AI was changed during the registration assessment process. This document corrects the name of the AI.

FOR FURTHER INFORMATION CONTACT: Robert McNally, Biopesticides and Pollution Prevention Division (7511P), Office of Pesticide Programs, Environmental Protection Agency, 1200 Pennsylvania Ave. NW., Washington, DC 20460-0001; telephone number: (703) 305-7090; email address: BPPDFRNotices@epa.gov.

SUPPLEMENTARY INFORMATION:

I. General Information

A. Does this action apply to me?

The Agency included in the August 14, 2012 notice a list of those who may be potentially affected by this action.

B. How can I get copies of this document and other related information?

The dockets for these actions, identified by the docket ID number of the notice being corrected, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

1. EPA-HQ-OPP-2012-0391. In FR Doc. 2012-19989, published in the Federal Register of August 14, 2012 (77 FR 48519) (FRL-9357-7), is corrected as follows: On page 48520, under the heading “II. Registration Applications,” first column, paragraph number 2., File Symbol: 88847-R, lines 5 and 6, correct “GS-U-ACTX-Hv1a-SEQ2” to read “GS-omega/kappa-Hxtx-Hv1a.”

2. EPA-HQ-OPP-2012-0391. In FR Doc. 2012-19989, published in the Federal Register of August 14, 2012 (77 FR 48519) (FRL-9357-7), is corrected as follows: On page 48520, under the heading “II. Registration Applications,” first and second columns, paragraph number 3., File Symbol: 88847-E, lines 5 and 6, correct “GS-U-ACTX-Hv1a-SEQ2” to read “GS-omega/kappa-Hxtx-Hv1a.”

List of Subjects

Environmental protection, Agricultural commodities, Feed additives, Food additives, Pesticides and pests, Reporting and recordkeeping requirements.

Dated: December 11, 2013.
Daniel J. Rosenblatt,
Acting Director, Registration Division, Office of Pesticide Programs.

[FR Doc. 2013-29976 Filed 12-17-13; 8:45 am]

BILLING CODE 6560-50-P